DEPARTMENT OF HEALTH AND HUMAN SERVICES

DEPARTMENT OF AGRICULTURE

Announcement of the Fourth 2015 Dietary Guidelines Advisory Committee Meeting

AGENCY: Department of Health and Human Services, Office of the Secretary, Office of the Assistant Secretary for Health; and U.S. Department of Agriculture, Food, Nutrition and Consumer Services and Research, Education, and Economics.

ACTION: Notice.

SUMMARY: As stipulated by the Federal Advisory Committee Act (FACA), the U.S. Department of Health and Human Services (HHS), in collaboration with the U.S. Department of Agriculture (USDA), is hereby giving notice that a meeting of the 2015 Dietary Guidelines Advisory Committee (DGAC) will be held and will be open to the public.

DATES: This meeting will be held on July 17, 2014, from 1:15-5:15 p.m. E.D.T. and July 18, 2014 from 8:00 a.m.-3:45 p.m. E.D.T.

ADDRESSES: This will not be an in-person meeting. Virtual technology will be utilized to conduct this meeting. The meeting will be accessible by webcast on the Internet.

FOR FURTHER INFORMATION CONTACT: Designated Federal Officer (DFO), 2015 DGAC, Richard D. Olson, M.D., M.P.H.; Office of Disease Prevention and Health Promotion, OASH/HHS; 1101 Wootton Parkway, Suite LL100 Tower Building; Rockville, MD 20852: Telephone: (240) 453-8280; Fax: (240) 453-8281; Alternate DFO, 2015 DGAC, Kellie (O'Connell) Casavale, Ph.D., R.D., Nutrition Advisor; Office of Disease Prevention and Health Promotion, OASH/HHS; 1101 Wootton Parkway, Suite LL100 Tower Building; Rockville, MD 20852: Telephone: (240) 453-8280; Fax: (240) 453-8281; Lead USDA Co-Executive Secretary, Colette I. Rihane, M.S., R.D., Director, Office of Nutrition Guidance and Analysis, Center for Nutrition Policy and Promotion, USDA; 3101 Park Center Drive, Room 1034; Alexandria, VA 22302; Telephone: (703) 305-7600; Fax: (703) 305-3300; and/or USDA Co-Executive Secretary, Shanthy A. Bowman, Ph.D., Nutritionist, Food Surveys Research Group, Beltsville Human Nutrition Research Center, Agricultural Research Service, USDA; 10300 Baltimore Avenue, BARC-West Bldg 005, Room 125; Beltsville, MD 20705-2350; Telephone: (301) 504-0619. Additional information about the 2015 DGAC and this meeting is available on the Internet at www.DietaryGuidelines.gov.

SUPPLEMENTARY INFORMATION: Under Section 301 of Public Law 101-445 (7 U.S.C. 5341, the National Nutrition Monitoring and Related Research Act of 1990, Title III) the Secretaries of Health and Human Services (HHS) and Agriculture (USDA) are directed to issue at least every five years a report titled Dietary Guidelines for Americans. The law instructs that this publication shall contain nutritional and dietary information and guidelines for the general public, shall be based on the preponderance of scientific and medical knowledge current at the time of publication, and shall be promoted by each federal agency in carrying out any federal food, nutrition, or health program. The Dietary Guidelines for Americans was issued voluntarily by HHS and USDA in 1980, 1985, and 1990; the 1995 edition was the first statutorily mandated report, followed by subsequent editions at appropriate intervals. To assist with satisfying the mandate, a discretionary federal advisory committee is established every five years to provide independent, science-based advice and recommendations. The 2015 DGAC consists of a panel of experts who were selected from the public/private sector. Individuals who were selected to serve on the Committee have current scientific knowledge in the field of human nutrition and chronic disease.

Appointed Committee Members: Fourteen members currently serve on the 2015 DGAC. They were appointed by the Secretaries of HHS and USDA in May 2013. Information on the 2015 DGAC membership is available at www.DietaryGuidelines.gov.

Authority: The 2015 DGAC is authorized under 42 U.S.C. 217a, Section 222 of the Public Health Service Act, as amended.

Committee's Task: The work of the 2015 DGAC is solely advisory in nature and time-limited. The Committee is tasked with developing recommendations based on the preponderance of current scientific and medical knowledge using a systematic review approach. The 2015 DGAC will examine the current Dietary Guidelines for Americans, take into consideration new scientific evidence and current resource documents, and develop a report that is to be given to the Secretaries of HHS and USDA. The report will outline science-based recommendations and rationales which will serve as the basis for developing the eighth edition of the Dietary Guidelines for Americans. When the 2015 DGAC was established, it was planned for the Committee to hold approximately six public meetings to review and discuss recommendations. This will be the fourth meeting of the 2015 DGAC. Additional meeting dates, times, locations, and other relevant information will be announced at least 15 days in advance of each meeting via Federal Register notice. As stipulated in the charter, the Committee will be terminated after delivery of its final report to the Secretaries of HHS and USDA or two years from the date the charter was filed, whichever comes first.

Purpose of the Meeting: In accordance with FACA and to promote transparency of the process, deliberations of the Committee will occur in a public forum. At this meeting, the Committee will continue its deliberations.

Meeting Agenda: The meeting agenda will include (a) review of Committee work since the last public meeting and (b) plans for future Committee work.

Meeting Registration: The meeting will be publicly accessible by webcast on the Internet; registration is required and is expected to open on June 4, 2014. To register, please go to www.DietaryGuidelines.gov and click on the link for “Meeting Registration.” To register by phone, please call National Capitol Contracting, Andrea Popp at (703) 243-9696 by 5:00 p.m. e.d.t., July 11, 2014. To register, the person's name, affiliation, and phone number or email address must be provided. After registering, individuals will receive webcast access information via email.

Written Public Comments: Written comments from the public will continue to be accepted throughout the Committee's deliberative process. Written public comments can be submitted and/or viewed at www.DietaryGuidelines.gov using the “Submit Comments” and “Read Comments” links, respectively. Those commenting are asked to provide comments as early as possible in the Committee's process to increase the opportunity for meaningful impact. A deadline for comment submission prior to each public meeting will no longer be used. The Committee requests that commenters provide a brief summary (consisting of no more than 250 words) of the points or issues in the comment text box. If commenters are providing literature or other resources, complete citations or abstracts and electronic links to full articles or reports are preferred instead of attaching these documents to the comment. As the Committee continues its work, it may request additional public comments on specific topics; these requests and any instructions for submitting them are posted on the Web site.

Meeting Documents: Documents pertaining to Committee deliberations, including meeting agendas, summaries, and webcasts will be available on www.DietaryGuidelines.gov under “Meetings.” Meeting information will continue to be accessible online, at the NIH Library, and upon request at the Office of Disease Prevention and Health Promotion, OASH/HHS; 1101 Wootton Parkway, Suite LL100 Tower Building; Rockville, MD 20852: Telephone (240) 453-8280; Fax: (240) 453-8281.

Dated: May 1, 2014.
Don Wright,
Deputy Assistant Secretary for Health, Office of Disease Prevention and Health Promotion, Office of the Assistant Secretary for Health, U.S. Department of Health and Human Services.
Dated: May 1, 2014.
Jackie Haven,
Acting Executive Director, Center for Nutrition Policy and Promotion, U.S. Department of Agriculture.
Dated: May 6, 2014.
Chavonda Jacobs-Young,
Administrator, Agricultural Research Service, U.S. Department of Agriculture.

[FR Doc. 2014-12010 Filed 5-22-14; 8:45 am]

BILLING CODE 4150-32-P